Proclamation 8945 of March 25, 2013

Establishment of the Charles Young Buffalo Soldiers National Monument

By the President of the United States of America

A Proclamation

Colonel Charles Young was the highest ranking African-American commanding officer in the United States Army from 1894 until his death in 1922. He also served as the first African-American superintendent of a national park, overseeing Sequoia and General Grant (now Kings Canyon) National Parks while commanding a troop of Buffalo Soldiers in the years before the creation of the National Park Service.

Young served nearly his entire military career with the all-black 9th and 10th Calvary regiments, often called “Buffalo Soldiers.” Commissioned in 1889 as a second lieutenant, Young attained the rank of colonel in 1917. During his career he served on the western frontier, saw combat in the Philippines, and rode with General John “Black Jack” Pershing in Mexico in 1916. He was the first African American to serve as a United States military attaché, first to Hispaniola (Haiti and the Dominican Republic) and later to Liberia. Young's diverse military career included a posting to Wilberforce University to serve as a professor of tactics and military science.

Born to enslaved parents in Kentucky in 1864, Young's parents, Gabriel and Arminta Young, moved to Ripley, Ohio, in 1866 with their two-year-old son Charles to improve their prospects after the Civil War. This Ohio River town was a center of abolitionism renowned as a welcoming place on the Underground Railroad during the antebellum years. Young thrived there and, in 1881 at age 17, he graduated with academic honors as a member of his integrated high school class. His mother encouraged his life-long intellectual and musical pursuits. Young grew up proud of his father's military service as a Union soldier during the Civil War, and he heeded his father's advice by entering the United States Military Academy at West Point. In 1889, Young was the third African American to graduate from West Point and the last African American to complete West Point until 1936.

Young established his career between 1889 and 1907, serving in the 9th Cavalry at western posts as a second lieutenant in Nebraska and Utah before accepting the military posting at Wilberforce University, where he was promoted to the rank of first lieutenant. During the Spanish-American War he was commissioned in the volunteers as a major, and accepted command of the 9th Ohio Volunteer Infantry Battalion. Although the unit did not deploy or see action, it gained a reputation for discipline and efficiency. Following the war, he returned to his regiment, and was promoted to captain in 1901. He saw combat with the regiment in the Philippine Islands and returned with the 9th Cavalry to California, where his troop was selected as honor guard for the visiting President Theodore Roosevelt—the first time African-American soldiers had served in that capacity. While assigned to the Presidio, Young and his regiment of Buffalo Soldiers were dispatched to Sequoia and General Grant National Parks where Young served as the acting superintendent, and earned the respect of not only the African-American troops he commanded, but also of the white construction crews he directed. His achievements drew the attention of President Theodore Roosevelt. Captain Young was appointed military attaché to Hispaniola in 1904—the first such appointment for an African American—before rejoining the 9th Cavalry in the Philippines, Wyoming, and Texas from 1908 to 1911.

In 1894, when Young accepted a posting at Wilberforce University, he returned to Ohio and with his widowed mother purchased a large house and adjoining farmland, which he named “Youngsholm.” While a professor at Wilberforce University, Young established life-long friendships with poet Paul Laurence Dunbar and philosopher W.E.B. Dubois. Youngsholm served as a gathering place for elite African-American thinkers, performers, and leaders. Young opened his doors to aspiring young people, and welcomed a revolving extended family there even during his many military postings. Although Young's career took him to far-flung places, it was Wilberforce, Ohio—where he established his home, raised a family, mentored a successive generation of leaders, and found intellectual refuge—that remained his base of operation.

From 1912 to 1916, Young served as the military attaché to Liberia, helping to train the Liberian Frontier Force, and then served as a squadron commander during the Punitive Expedition in Mexico against Pancho Villa. He distinguished himself at the Battle of Agua Caliente, leading his men to the aid of a cavalry unit that had been ambushed. During the same period, Young won additional promotions, to major in 1912, and lieutenant colonel in 1916. The 1916 examination board for his promotion to lieutenant colonel acknowledged Young's prior illness (malaria contracted while in Liberia), but concluded he was fit for duty.

On the eve of World War I, Young was the highest ranking African-American officer in the U.S. Army. As the United States readied its forces for Europe, Young and his supporters expected that he would continue to rise in rank and contribute to the wartime effort. Subsequent examination boards recommended Young for a promotion, but also noted medical concerns about his fitness to serve. In June 1917, Young was selected for promotion to the rank of colonel; however, his physical exam revealed he suffered from nephritis (a condition first diagnosed in 1901), high blood pressure, and an enlarged heart. Around the same time, several Southern Senators were pressuring President Woodrow Wilson and his Secretary of War to take steps to reassign or otherwise prevent white officers from serving under Young's command. Indeed, as the United States entered World War I, the War Department generally kept African Americans from assuming leadership of African-American regiments being sent to France and largely restricted African-American troops to non-combat roles.

In July 1917, Young was medically retired as a result of his illnesses, and promoted to Colonel in recognition of his distinguished Army service. Young was disappointed, and he and his supporters asked for reconsideration. To demonstrate his fitness to serve, Young—who was then 54—made an historic 500-mile horseback ride from Wilberforce, Ohio, to Washington, DC Afterwards, the Secretary of War gave Young an informal hearing, but did not reverse the decision. The War Department's action in this matter was controversial, especially within the African-American community, during this time of significant racial tension. Young continued to protest his retirement and work for the civil rights of all African-American soldiers.

Yet, Young's career was not over. Though medically retired, he was retained on a list of active duty officers. During World War I, the War Department sent him back to Ohio to help muster and train African-American troops being recruited for the war. Days before the November 1918 armistice, Young was assigned for a few months to Camp Grant in Rockford, Illinois, to train African-American servicemen for non-combat duties. Shortly thereafter, at the request of the State Department, Colonel Young was sent once more to serve again as military attaché to Liberia, arriving in Monrovia in February 1920. While in neighboring Nigeria, he passed away at the British hospital in Lagos on January 8, 1922. In 1923, Colonel Charles Young became only the fourth soldier to be honored with a funeral service at the Arlington Amphitheatre before burial in Arlington Cemetery.

Colonel Charles Young's story and leadership are also emblematic of the experience of the Buffalo Soldiers during difficult and racially tense times. The story of the Buffalo Soldiers' bravery and service is not fully told at any existing national park sites. In 1866, the Congress established six all-black regiments, later consolidated to four, to help rebuild the country after the Civil War and to patrol the remote western frontier during the “Indian Wars.” Although the pay was low for the time—only $13 a month—many African Americans enlisted because they could earn more and be treated with more dignity than they typically could in civilian life. According to legend, American Indians called the black cavalry troops “buffalo soldiers” because of their dark, curly hair, which resembled a buffalo's coat. Aware of the buffalo's fierce bravery and fighting spirit, the African-American troops accepted the name with pride and honor.

The Buffalo Soldiers fought alongside white regiments in many conflicts and were instrumental in the exploration and settlement of western lands. They were also an important part of the early history of America's national parks. Before the Congress created the National Park Service in 1916, the U.S. Army played a critical role in administering several parks. The Army sent the Buffalo Soldiers stationed at the Presidio to manage Yosemite, General Grant, and Sequoia National Parks in California. The Buffalo Soldiers blazed early park trails, built roads, produced maps, drove out trespassing livestock, extinguished fires, monitored tourists, and kept poachers and loggers at bay.

WHEREAS section 2 of the Act of June 8, 1906 (34 Stat. 225, 16 U.S.C. 431) (the “Antiquities Act”), authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected;

WHEREAS the National Park Foundation and the Trust for Public Lands, with the assistance and cooperation of the Friendship Foundation, Omega Psi Phi fraternity, and Central State University, have relinquished the existing remainder of the Youngsholm property, consisting of Colonel Young's home and surrounding farmland, to the United States for the purpose of establishing this monument;

WHEREAS it is in the public interest to preserve and protect the objects of historic and scientific interest associated with Charles Young and the Buffalo Soldiers at Youngsholm in Wilberforce, Ohio;

NOW, THEREFORE, I, BARACK OBAMA, President of the United States of America, by the authority vested in me by section 2 of the Antiquities Act, hereby proclaim, set apart, and reserve as the Charles Young Buffalo Soldiers National Monument (monument) the objects identified above and all lands and interests in lands owned or controlled by the Government of the United States within the boundaries described on the accompanying map, which is attached to and forms a part of this proclamation, for the purpose of protecting those objects. These reserved Federal lands and interests in lands encompass 59.65 acres, which is the smallest area compatible with the proper care and management of the objects to be protected.

All Federal lands and interests in lands within the boundaries of the monument are hereby appropriated and withdrawn from all forms of entry, location, selection, sale, leasing, or other disposition under the public land laws, including withdrawal from location, entry, and patent under the mining laws, and from disposition under all laws relating to mineral and geothermal leasing.

The establishment of the monument is subject to valid existing rights. Lands and interests in lands within the monument boundaries not owned or controlled by the United States shall be reserved as part of the monument upon acquisition of ownership or control by the United States.

The Secretary of the Interior (Secretary) shall manage the monument through the National Park Service, pursuant to applicable legal authorities, consistent with the purposes of this proclamation.

The Secretary shall prepare a management plan for the monument, with full public involvement, within 3 years of the date of this proclamation. The management plan shall ensure that the monument fulfills the following purposes for the benefit of present and future generations: (1) to preserve and protect the objects of historic and scientific interest identified above, (2) to commemorate the life and accomplishments of Colonel Charles Young, and (3) to interpret the struggles and achievements of the Buffalo Soldiers in their service to the United States. The management plan shall identify steps to be taken to provide interpretive opportunities concerning Colonel Young and the Buffalo Soldiers both at the monument and at other sites where appropriate. The management plan shall also set forth the desired relationship of the monument to other related resources, programs, and organizations associated with the life of Colonel Charles Young, such as the U.S. Army, the Omega Psi Phi fraternity, and Wilberforce University, as well as to other sites significant to the Buffalo Soldiers.

The National Park Service shall use existing authorities as appropriate to enter into agreements with Central State University, Wilberforce University, Omega Psi Phi, the Ohio Historical Society, and other organizations and individuals to provide further opportunities for interpretation and education consistent with monument purposes. The National Park Service shall coordinate with the Golden Gate National Recreation Area, which manages the Presidio in San Francisco, and Sequoia, Kings Canyon, and Yosemite National Parks to commemorate the historical ties between Colonel Charles Young and his military assignments at those sites, and the role of the Buffalo Soldiers as pioneering stewards of our national parks. The National Park Service shall use available authorities, as appropriate, to enter into agreements with other organizations to provide for interpretation and education at additional sites with an historic association or affiliation with the Buffalo Soldiers.

Nothing in this proclamation shall be deemed to revoke any existing withdrawal, reservation, or appropriation; however, the monument shall be the dominant reservation.

Warning is hereby given to all unauthorized persons not to appropriate, injure, destroy, or remove any feature of the monument and not to locate or settle upon any of the lands thereof.

IN WITNESS WHEREOF, I have hereunto set my hand this twenty-fifth day of March, in the year of our Lord two thousand thirteen, and of the Independence of the United States of America the two hundred and thirty-seventh.

Billing code 3295-F3

[FR Doc. 2013-07404

Filed 3-27-13; 8:45 am]

Billing code 4310-10-C